LEGAL SERVICES CORPORATION

45 CFR Part 1626

Solicitation for Expressions of Interest in Participation in Negotiated Rulemaking Working Group

AGENCY: Legal Services Corporation.

ACTION: Request for expressions of interest in participation in Negotiated Rulemaking Working Group.

SUMMARY: LSC is conducting a Negotiated Rulemaking to consider revisions to its alien representation regulations at 45 CFR part 1626. LSC hereby solicits expressions of interest in appointment to the Working Group from the regulated community, its clients, advocates, the organized bar and other interested parties

DATES: Expressions of interest must be received by September 25, 2001.

FOR FURTHER INFORMATION CONTACT: Mattie C. Condray, Senior Assistant General Counsel, Legal Services Corporation, 750 First Street NE., Washington, DC 20002-4250; (202) 336-8817; mcondray@lsc.gov.

SUPPLEMENTARY INFORMATION: 45 CFR part 1626 sets forth the restrictions on legal assistance LSC grant recipients may provide to non-U.S. citizens. Although Part 1626 was last amended relatively recently (1997), this regulation has been identified both by staff and field representatives as in need of additional amendment. In the years since its last amendment, several practical issues have emerged, such as issues relating to documentation requirements, representation of groups of aliens, and representation of legal aliens not currently covered by the rule. In addition, the findings of the Erlenborn Commission and certain provisions from the Victims of Trafficking and Violence Protection Act of 2000 need to be incorporated into the 1626 regulations.

In light of the above, the LSC Board of Directors identified 45 CFR part 1626, Restrictions on Legal Assistance to Aliens, as an appropriate subject for rulemaking on January 27, 2001.¹ On June 30, 2001, the LSC President and the Chair of the Operations and Regulations Committee made a determination to proceed with the institution of a Negotiated Rulemaking to consider amendments to part 1626. In accordance with the LSC Rulemaking Protocol, LSC is now formally soliciting suggestions for appointment to the Working Group from the regulated community, its clients, advocates, the organized bar and other interested parties.

¹ The LSC Board of Directors had previously identified 1626 as an appropriate subject for rulemaking as it relates to the incorporation of the findings of the Erlenborn Commission as adopted by the LSC Board of Directors in 1999. The current action supercedes and subsumes that previously announced rulemaking action.

The Negotiated Rulemaking Working Group

LSC anticipates that the Working Group will be a group of 15-20 persons comprised of LSC representatives and affected and/or interested parties (i.e., individual recipients, clients, national organizations, local and national bar associations, etc.). LSC anticipates that the Working Group will include LSC representatives from the Office of Legal Affairs, the Office of Program Performance, and the Office of Compliance and Enforcement, along with a liaison from the Office of Inspector General. LSC is seeking external members representing national legal services advocacy organizations; individual recipients (preferably reflecting large/small and/or urban/rural diversity); clients; national and local organized bar associations; and other interested stakeholders. While there are no specific “criteria” for membership, it is expected that members will have the support of their organizations in participating in the effort and be knowledgeable about the issues.

Once appointed, the Working Group will meet under the direction of a trained facilitator with the aim of developing a consensus-based proposed rule. LSC expects that the Working Group will meet in 2-3 day, face-to-face sessions over the coming several months.

Solicitation of Expressions of Interest in Appointment to the Working Group

LSC hereby solicits expressions of interest in appointment to the Working Group from the regulated community, its clients, advocates, the organized bar and other interested parties. Expressions of interest must be submitted no later than 15 days from the date of publication of this notice. Expressions of interest must be submitted in writing (by regular mail, fax or email) to LSC's Mattie Condray at the addresses listed in this notice.

Once LSC has received expressions of interest, the President, working in consultation with the Operations and Regulations Committee, acting through its Chair, will make appointments of individuals and organizations to the Working Group. Groups or organizations asked to participate in the Working Group will be responsible for selecting and designating their own representatives.

Victor M. Fortuno,
General Counsel and Vice President for Legal Affairs.

[FR Doc. 01-22596 Filed 9-7-01; 8:45 am]

BILLING CODE 7050-01-P